ENVIRONMENTAL PROTECTION AGENCY

[FRL-9531-2]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et. Seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or email at westlund.rick@epa.gov and please refer to the appropriate EPA Information Collection Request (ICR) Number.

SUPPLEMENTARY INFORMATION:

OMB Responses to Agency Clearance Requests

OMB approvals

EPA ICR Number 1893.06; Emission Guidelines and Compliance Times for Municipal Solid Waste Landfills; 40 CFR part 60 subparts A and Cc; 40 CFR part 62 subpart GGG; was approved on 04/10/2013; OMB Number 2060-0430; expires on 04/30/2016; Approved without change.

EPA ICR Number 1573.13; Part B Permit Application, Permit Modifications and Special Permits (Renewal); 40 CFR parts 264 and 270; was approved on 04/10/2013; OMB Number 2050-0009; expires on 04/30/2016; Approved without change.

EPA ICR Number 1060.16; NSPS for Steel Plants: Electric Arc Furnaces and Argon-Oxygen Decarburization Vessels; 40 CFR part 60 subparts A, AA and AAa; was approved on 04/10/2013; OMB Number 2060-0038; expires on 04/30/2016; Approved without change.

EPA ICR Number 2050.05; NESHAP for Taconite Iron Ore Processing; 40 CFR part 63 subparts A and RRRRR; was approved on 04/10/2013; OMB Number 2060-0538; expires on 04/30/2016; Approved without change.

EPA ICR Number 1415.10; NESHAP for Perchlorethylene Dry Cleaning Facilities; 40 CFR part 63 subparts A and M; was approved on 04/12/2013; OMB Number 2060-0234; expires on 04/30/2016; Approved without change.

EPA ICR Number 1788.11; NESHAP for Oil and Natural Gas Production; 40 CFR part 63, subparts A and HH; was approved on 04/12/2013; OMB Number 2060-0417; expires on 06/30/2013; Approved without change.

EPA ICR Number 1487.12; Consolidated Superfund Information Collection Request (Renewal); 40 CFR part 35, subpart O; 40 CFR part 300, Appendix A; and 40 CFR 300.425, 300.430 and 300.435; was approved on 04/12/2013; OMB Number 2050-0179; expires on 04/30/2016; Approved without change.

EPA ICR Number 1572.10; Hazardous Waste Specific Unit Requirements and Special Waste Processes and Types (Renewal); 40 CFR 264.11, 264.19, 264.28, 264.57, 264.113(e), 264.191, 264.192(g), 264.193(i), 264.196, 264.197(b), 264.222(b), 264.223(b) and (c), 264.226(c), 264.226(d), 264.227, 264.252(b), 264.253(b) and (c), 264.254, 264.276, 264.278(a)-(f) and (h), 264.278(g), 264.302(b), 264.303(b), 264.304(b) and (c), 264.314, 264.343, 264.347, 264.571, 264.573, 264.574, 264.603, 264.1033(j), 264.1034-264.1036, 264.1061, 264.1062-264.1065, 264.1101, 265.11, 265.19, 265.26, 265.34, 265.44, 265.113(e), 265.191-265.193, 265.196, 265.197(b), 265.221, 265.222, 265.223, 265.225, 265.226, 265.229, 265.254, 265.255, 265.259, 265.276, 265.278, 265.28, 265.301, 265.302, 265.303, 265.304, 265.314, 265.352, 265.383, 265.404, 265.441, 265.443, 265.444, 265.1033-265.1035, 265.1061-265.1064, 265.1101, and 266.70(c); was approved on 04/12/2013; OMB Number 2050-0050; expires on 04/30/2016; Approved with change.

EPA ICR Number 2478.01; Federal Implementation Plan for Oil and Natural Gas Well Production Facilities; Fort Berthold Indian Reservation (Mandan, Hidatsa, and Arikara Nation), North Dakota (Final Rule); 40 CFR 49.4161; was approved on 04/12/2013; OMB Number 2008-0001; expires on 04/30/2016; Approved without change.

EPA ICR Number 2046.07; NESHAP for Mercury Cell Chlor-Alkali Plants; 40 CFR part 63 subparts A and IIIII; was approved on 04/15/2013; OMB Number 2060-0542; expires on 04/30/2016; Approved without change.

EPA ICR Number 2219.04; Tips and Complaints Regarding Environmental Violations (Renewal); was approved on 04/15/2013; OMB Number 2020-0032; expires on 04/30/2016; Approved without change.

EPA ICR Number 2240.04; NESHAP for Area Sources: Polyvinyl Chloride and Copolymer Production, Primary Copper Smelting, Secondary Copper Smelting, and Primary Nonferrous Metals—Zinc, Cadmium, and Beryllium (Renewal); 40 CFR part 63 subparts A, DDDDDD, EEEEEE, FFFFFF and GGGGGG; was approved on 04/15/2013; OMB Number 2060-0596; expires on 04/30/2016; Approved without change.

EPA ICR Number 2354.03; NESHAP for Prepared Feeds Manufacturing; 40 CFR part 63 subparts A and DDDDDDD; was approved on 04/15/2013; OMB Number 2060-0635; expires on 04/30/2016; Approved without change.

EPA ICR Number 2014.05; Reporting and Recordkeeping Requirements of the HCFC Allowance System (Renewal); 40 CFR part 82 subpart A; was approved on 04/18/2013; OMB Number 2060-0498; expires on 04/30/2016; Approved without change.

EPA ICR Number 1797.06; NSPS for Standards of Performance for Storage Vessels for Petroleum Liquids for which Construction, Reconstruction or Modification Commenced after June 11, 1973, and prior to May 19, 1978 (Renewal); 40 CFR part 60 subparts A and K; was approved on 04/19/2013; OMB Number 2060-0442; expires on 04/30/2016; Approved without change.

EPA ICR Number 2098.06; NESHAP for Primary Magnesium Refining; 40 CFR part 63 subparts A and TTTTT; was approved on 04/19/2013; OMB Number 2060-0536; expires on 04/30/2016; Approved without change.

EPA ICR Number 2356.03; NESHAP for Chemical Preparations Industry; 40 CFR part 63 subparts A and BBBBBBB; was approved on 04/19/2013; OMB Number 2060-0636; expires on 04/30/2016; Approved without change.

EPA ICR Number 1739.07; NESHAP for the Printing and Publishing Industry; 40 CFR part 63 subparts A and KK; was approved on 04/19/2013; OMB Number 2060-0335; expires on 04/30/2016; Approved without change.

Withdrawn and Continue

EPA ICR Number 1487.11; Consolidated Superfund Information Collection Request (Renewal); Withdrawn from OMB on 04/10/2013 EPA ICR Number 2434.15; Generic Clearance for the Collection of Qualitative Feedback on Agency Service Delivery (New); Withdrawn from OMB on 04/30/2013

John Moses,
Director, Collections Strategies Division.

[FR Doc. 2013-10883 Filed 5-7-13; 8:45 am]

BILLING CODE 6560-50-P